ENVIRONMENTAL PROTECTION AGENCY

[EPA-HQ-OAR-2008-0222; FRL-8739-4]

Agency Information Collection Activities: Submission to OMB for Review and Approval; Comment Request; Air Pollution Regulations for Outer Continental Shelf (OCS) Activities (Renewal); EPA ICR No. 1601.07; OMB Control No. 2060-0249

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before December 8, 2008.

ADDRESSES: Submit your comments, identified by Docket ID No. EPA-HQ-OAR-2008-0222, to (1) EPA online using http://www.regulations.gov (our preferred method), by e-mail to a-and-r-docket@epa.gov, or by mail to: Environmental Protection Agency, Air and Radiation Docket and Information Center, Mailcode: 2822T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Mr. Shao-Hang Chu, Air Quality Policy Division, Office of Air Quality Planning and Standards, (C539-04), Environmental Protection Agency, Research Triangle Park, North Carolina 27711; telephone number: (919) 541-5382; fax number: (919) 541-0824; e-mail address: chu.shao-hang@epa.gov.

SUPPLEMENTARY INFORMATION: EPA has submitted the following ICR to OMB for review and approval according to the procedures prescribed in 5 CFR 1320.12. On April 29, 2008 (73 FR 23249), EPA sought comments on this ICR pursuant to 5 CFR 1320.8(d). EPA received no comments. Any additional comments on this ICR should be submitted to EPA and OMB within 30 days of this notice.

EPA has established a public docket for this ICR under Docket ID No. EPA-HQ-OAR-2008-0222, which is available for online viewing at http://www.regulations.gov, or in person viewing at the Air and Radiation Docket and Information Center in the EPA Docket Center (EPA/DC), EPA West, Room 3334, 1301 Constitution Ave., NW., Washington, DC. The EPA/DC Public Reading Room is open from 8:30 a.m. to 4:30 p.m., Monday through Friday, excluding legal holidays. The telephone number for the Reading Room is (202) 566-1744, and the telephone number for the Air and Radiation Docket is (202) 566-1742.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Air Pollution Regulations for Outer Continental Shelf (OCS) Activities (Renewal).

ICR Numbers: EPA ICR No. 1601.07, OMB Control No. 2060-0249.

ICR Status: This ICR is scheduled to expire on January 31, 2009. Under OMB regulations, the Agency may continue to conduct or sponsor the collection of information while this submission is pending at OMB. An agency may not conduct or sponsor, and a person is not required to respond to, a collection of information, unless it displays a currently valid OMB control number. The OMB control numbers for EPA's regulations in 40 CFR are listed in 40 CFR part 9, are displayed either by publication in the Federal Register or by other appropriate means, such as on the related collection instrument or form, if applicable. The display of OMB control numbers in certain EPA regulations is consolidated in 40 CFR part 9.

Abstract: Section 328 (Air Pollution from Outer Continental Shelf Activities) of the Clean Air Act (CAA), as amended in 1990, gives EPA responsibility for regulating air pollution from OCS sources located offshore of the states along the Pacific, Arctic, and Atlantic Coasts, and along the eastern Gulf of Mexico coast (off the coast of Florida). The U.S. Department of Interior's Minerals Management Service (MMS) retained the responsibility for regulating air pollution from sources located in the western Gulf of Mexico. To comply with the requirements of section 328 of the CAA, EPA, on September 4, 1992 at 57 FR 40792, promulgated regulations to control air pollution from OCS sources in order to attain and maintain federal and state ambient air quality standards and to comply with the provisions of part C of title I of the CAA. Sources located within 25 miles of a state's seaward boundary must comply with the same state/local air pollution control requirements as would be applicable if the source were located in the corresponding onshore area (COA). Sources located more than 25 miles from a state's seaward boundary (25 mile limit) must comply with EPA air pollution control regulations. The regulations are codified as part 55 of chapter I of title 40 of the CFR. On September 2, 1997, EPA made two court-ordered revisions to the regulations.

This ICR addresses the information collection burden (i.e., hours and costs) to industry respondents who are subject to the reporting, recordkeeping, and testing requirements of the OCS air regulations. Industry respondents include owners or operators of existing and new or modified stationary sources. Since the OCS Air Regulations essentially extend the coverage of other regulations, the data and information requirements associated with the regulations will vary depending on the underlying regulations. For example, sources located within a 25-mile limit off the coast of a nonattainment area will generally have more stringent New Source Review (NSR) regulations than those locating off the coast of an attainment area. The data and information requirements will also vary depending on the size and type of source. The exploration sources are generally smaller sources and not subject to the permit requirements of larger sources.

This ICR also addresses the burden to the agencies who are responsible for implementing and enforcing the OCS regulations. The EPA has delegated the authority to implement and enforce the OCS regulations for sources located off the coast of California to four local air pollution control agencies: Santa Barbara County Air Pollution Control District (SBCAPCD); South Coast Air Quality Management District (SCAQMD); Ventura County Air Pollution Control District (VCAPCD); and San Luis Obispo County Air Pollution Control District (SLOAPCD). The EPA implements and enforces the regulations for all other sources under its authority.

Burden Statement: The annual public reporting and recordkeeping burden for this collection of information is estimated to average 112 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Entities potentially affected by this action are all outer continental shelf sources except those located in the Gulf of Mexico west of 87.5 degrees longitude (near the border of Florida and Alabama). For sources located within 25 miles of States' seaward boundaries, the requirements are the same as those that would be applicable if the source were located in the corresponding onshore area. In States affected by this rule, State boundaries extend three miles from the coastline, except off the coast of the Florida Panhandle, where the State's boundary extends three leagues (about nine miles) from the coastline.

Estimated Number of Respondents: 65.

Frequency of Response: On occasion.

Estimated Total Annual Hour Burden: 30,797.

Estimated Total Annual Cost: $42,756, which includes $9,506 annualized capital/startup costs and $33,250 annual O&M costs.

Changes in the Estimates: There is a decrease of 3,227 hours in the total estimated burden currently identified in the OMB Inventory of Approved ICR Burdens. This decrease is due to the projected changes in the mix and type of sources projected to occur in the upcoming clearance period. Most notably, there is a significant increase in the number of exploratory wells under EPA authority and the addition of eight alternative energy projects. In contrast, the number of existing development/production wells under EPA jurisdiction has been changed from 15 to 0 in the upcoming period. However, we project that costs will increase because the estimates have been calculated using 2007 dollars and some assumptions regarding overhead, O&M costs, and capital costs have been adjusted to meet current guidelines and common procedures for preparing ICRs.

Dated: October 31, 2008.
Deborah Williams,
Acting Director, Collection Strategies Division.

[FR Doc. E8-26499 Filed 11-5-08; 8:45 am]

BILLING CODE 6560-50-P